DEPARTMENT OF THE INTERIOR

U.S. Geological Survey

[GX12LC00BM6P2BB FY12/13]

Agency Information Collection Activities: Comment Request

AGENCY: U.S. Geological Survey (USGS), Interior.

ACTION: Notice of an extension of an information collection (1028-0082).

SUMMARY: To comply with the Paperwork Reduction Act of 1995 (PRA), we are notifying the public that we will submit to OMB an information collection request (ICR) to renew approval of the paperwork requirements for “Bird Banding Lab (4 USGS forms).” This notice provides the public and other Federal agencies an opportunity to comment on the paperwork burden of this form. This collection is scheduled to expire on November 30, 2012.

DATES: You must submit comments on or before September 11, 2012.

ADDRESSES: Please send your comments concerning the IC to the USGS to the Information Collection Clearance Officer, Shari Baloch, U.S. Geological Survey, 12201 Sunrise Valley Drive MS 807, Reston, VA 20192 (mail); 703-648-7199 (fax); or smbaloch@usgs.gov (email). Use Information Collection Number 1028-0082 in the subject line.

FOR FURTHER INFORMATION CONTACT: To request additional information about this ICR, contact Bruce Peterjohn, (301) 497-5646 (phone) or bpeterjohn@usgs.gov (email).

SUPPLEMENTARY INFORMATION:

Title: Bird Banding Laboratory.

OMB Control Number: 1028-0082.

Type of Request: Extension of a currently approved collection.

Abstract: The USGS Bird Banding Laboratory is responsible for monitoring the trapping and marking of wild migratory birds by persons holding Federal permits. The Bird Banding laboratory collects information using three forms: (1) The Application for Federal Bird Marking and Salvage Permit, (2) The Bird Banding Permit Renewal Form, (3) The Bird Banding Recovery Report, and one electronic database, Bandit.

We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

Affected Public: General Public.

Respondent Obligation: Voluntary.

Frequency of Collection: On occasion.

Estimated Number and Description of Respondents: 152,500 individuals encountering a banded bird and volunteer bird banders.

Annual Burden Hours: 28,150 hours (300 hours for permit applications, 100 hours for renewals, 4,250 hours for banding recovery reports, and 23,500 hours for the Bandit software).

Estimated Annual Reporting and Recordkeeping “Hour” Burden: The currently approved “hour” burden for this collection is 28,048 hours. We estimate the time to complete each form is: 30 minutes for the Permit Application form, 2 minutes for Bird Banding Permit renewal form, 5 minutes for Recovery Report form, and 4 hours for the Bandit software.

Estimated Reporting and Recordkeeping “Non-Hour Cost” Burden: We have not identified any “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: July 2, 2012.
Anne Kinsinger,
Associate Director for Ecosystems, USGS.

[FR Doc. 2012-17088 Filed 7-12-12; 8:45 am]

BILLING CODE 4311-AM-P